DEPARTMENT OF COMMERCE

National Oceanic and Atmospheric Administration

[RTID 0648-XA317]

Endangered and Threatened Species; Take of Anadromous Fish

AGENCY: National Marine Fisheries Service (NMFS), National Oceanic and Atmospheric Administration (NOAA), Department of Commerce.

ACTION: Notice; availability of a draft Hatchery and Genetic Management Plan for public comment.

SUMMARY: Notice is hereby given that NMFS has received a Hatchery and Genetic Management Plan (HGMP) outlining a program, operated by the Oregon Department of Fish and Wildlife (ODFW), rearing and releasing Clackamas River spring Chinook salmon into the Clackamas, Willamette, and Lower Columbia River basins. This document serves to notify the public of the availability and opportunity to comment on a draft HGMP. The HGMP was submitted for review and determination under Limit 5 of the Endangered Species Act (ESA) 4(d) Rule for salmon and steelhead.

DATES: Comments must be received at the appropriate address (see ADDRESSES) no later than 5 p.m. Pacific time on August 31, 2020. Comments received after this date may not be considered.

ADDRESSES: Written responses should be addressed to the NMFS Sustainable Fisheries Division, 1201 NE Lloyd Blvd., Portland, OR 97232. Comments may be submitted by email. The mailbox address for providing email comments is: Hatcheries.Public.Comment@noaa.gov. Include in the subject line of the email comment the following identifier: Clackamas Hatchery Spring Chinook Comments.

FOR FURTHER INFORMATION CONTACT: James Archibald at (503) 230-5425 or by email at james.archibald@noaa.gov.

SUPPLEMENTARY INFORMATION:

ESA-Listed Species Covered in This Notice

• Lower Columbia River Chinook Salmon (Oncorhynchus tshawytscha): Threatened, naturally and artificially propagated

• Lower Columbia River Steelhead (O. mykiss): Threatened, naturally and artificially propagated

• Lower Columbia River Coho Salmon (O. kisutch): Threatened, naturally and artificially propagated

• Columbia River Chum Salmon (O. keta): Threatened, naturally and artificially propagated

Background

Section 9 of the ESA and Federal regulations prohibit the “taking” of a species listed as endangered or threatened. The term “take” is defined under the ESA to mean harass, harm, pursue, hunt, shoot, wound, kill, trap, capture, or collect, or to attempt to engage in any such conduct. NMFS may make exceptions to the take prohibitions in section 9 of the ESA for programs that are approved by NMFS under the 4(d) Rule (50 CFR 223.203(b)(6)).

ODFW has submitted an HGMP for the Clackamas Hatchery Spring Chinook Salmon program in the Clackamas River basin under Limit 5 of the 4(d) Rule. This program is primarily funded by the National Marine Fishery Service through the Mitchell Act, and partially funded by the City of Portland and Portland General Electric.

Prior to making a final determination on the submitted HGMP, NMFS must make it available for the public to have the opportunity comment on how the HGMP addresses the criteria in Limit 5 of the 4(d) Rule.

The submitted HGMP describes the hatchery program along with the associated monitoring and evaluation activities. The program will begin to integrate natural-origin returning adults into the hatchery broodstock in order to promote an increase in genetic fitness and survivability. Through the use of a conservative sliding scale approach, the ODFW will incorporate a small percentage of natural-origin returning adults. This integrated program will provide a much needed increase in genetic fitness to a highly domesticated hatchery stock that has struggled with precipitous declining returns for the last decade. ODFW hopes that this new management approach will supplement the much desired mark-selective Clackamas River spring Chinook salmon fishery. The program is intended to mitigate for fish losses caused by the construction and operation of the mainstem Columbia River and the Clackamas River dams by providing fishing opportunities for tribes and states, and to contribute to the survival and recovery of ESA-listed Lower Columbia River Chinook salmon.

Authority: 16 U.S.C. 1531 et seq.; subpart B, § 223.201-202 also issued under 16 U.S.C. 1361 et seq.

Dated: July 23, 2020.
Angela Somma,
Chief, Endangered Species Division, Office of Protected Resources, National Marine Fisheries Service.

[FR Doc. 2020-16462 Filed 7-29-20; 8:45 am]

BILLING CODE 3510-22-P